DEPARTMENT OF ENERGY

Federal Energy Regulatory Commission

Combined Notice of Filings #1

August 24, 2005.

Take notice that the Commission received the following electric rate filings:

Docket Numbers: ER01-931-008; ER01-931-009; ER01-930-008; ER01-930-009.

Applicants: Panda Gila River, L.P.; Union Power Partners, L.P.

Description: Panda Gila River Power, L.P. and Union Power Partners, L.P. submits response to the Commission's deficiency letter issued 8/12/05 in Docket No. ER99-2342-004, et al.

Filed Date: 08/18/2005.

Accession Number: 20050823-0172.

Comment Date: 5 p.m. eastern time on Thursday, September 08, 2005.

Docket Numbers: ER02-1600-004.

Applicants: Green Mountain Energy Company.

Description: Green Mountain Energy Company submits revisions to its FERC Electric Tariff, Original Volume No. 1 , to include the change in status language required by the Commission's Order No. 652 and the market behavior rules language.

Filed Date: 08/19/2005.

Accession Number: 20050823-0146.

Comment Date: 5 p.m. eastern time on Friday, September 09, 2005.

Docket Numbers: ER05-1322-000.

Applicants: Xcel Energy Operating Companies.

Description: Xcel Energy submits compliance tariff pages to the Xcel Energy Operating Companies the Fourth Revised Sheet No. 9, First Revised Sheet no. 168.1, Original Sheet No. 329 and Original Sheet Nos. 345 to 446 to its Joint Open Access Transmission Tariff, First Revised Volume No. 1.

Filed Date: 08/12/2005.

Accession Number: 20050815-0216.

Comment Date: 5 p.m. eastern time on Tuesday, September 06, 2005.

Docket Numbers: ER05-1365-000.

Applicants: Premcor Power Marketing LLC.

Description: Premcor Power Marketing, LLC submits notice of cancellation of its FERC Electric Tariff, Original Volume No. 1, First Revised Sheet Nos. 1-5, Superseding Original Sheet Nos. 1-5 to be effective 8/31/05.

Filed Date: 08/19/2005.

Accession Number: 20050823-0144.

Comment Date: 5 p.m. eastern time on Friday, August 26, 2005.

Docket Numbers: ER05-1377-000.

Applicants: Idaho Power Company.

Description: Idaho Power Company submits an amendment to its Market Based Rate Tariff, FERC Electric Tariff Original Volume No. 6, to be effective 10/18/05.

Filed Date: 08/18/2005.

Accession Number: 20050822-0082.

Comment Date: 5 p.m. eastern time on Thursday, September 08, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4721 Filed 8-29-05; 8:45 am]

BILLING CODE 6717-01-P